DEPARTMENT OF THE INTERIOR

National Park Service

[NPS-IMR-YELL-11838; PPWONRADE2, PMP00EI05.YP0000]

Winter Use Plan, Final Environmental Impact Statement Amended Record of Decision, Yellowstone National Park, Idaho, Montana, and Wyoming

AGENCY: National Park Service, Interior.

ACTION: Notice of Availability of Amended Record of Decision for the Final Environmental Impact Statement for a Winter Use Plan, Yellowstone National Park.

SUMMARY: Pursuant to Sec. 102(2)(C) of the National Environmental Policy Act of 1969, 42 U.S.C. 4332(2)(C), the National Park Service (NPS) announces the availability of the Amended Record of Decision for the Winter Use Plan for Yellowstone National Park, located in Idaho, Montana, and Wyoming. On December 3, 2012, the Regional Director, Intermountain Region, approved the Amended Record of Decision for the plan.

The NPS will implement this decision through an implementing regulation that will take effect on December 15, 2012.

FOR FURTHER INFORMATION CONTACT: Wade Vagias, Management Assistant, Yellowstone National Park, 307-344-2035.

SUPPLEMENTARY INFORMATION: The Amended Record of Decision selects Alternative 2 for implementation, for the 2012-2013 winter season only. The NPS will allow oversnow vehicle use in the park for the winter of 2012-2013 at the same levels that were allowed under the interim regulation in place for the winters of 2009-2010, 2010-2011, and 2011-2012. Up to 318 commercially guided, best-available-technology snowmobiles and 78 commercially guided snowcoaches will be allowed in the park per day. All snowmobiles and snowcoaches will be 100 percent commercially guided and Sylvan Pass will remain open under the same conditions as the past three winter seasons.

The Final Environmental Impact Statement analyzed eight alternatives, including a no-action alternative. The full range of foreseeable environmental consequences was assessed, and appropriate mitigating measures were identified.

The Amended Record of Decision includes a statement of the decision made, synopses of other alternatives considered, the basis for the decision, a description of the environmentally preferred alternative, a listing of measures to minimize environmental harm, and an overview of public involvement in the decision-making process.

Copies of the Amended Record of Decision may be obtained from the contact listed above or online at http://parkplanning.nps.gov/yell.

Dated: December 2, 2012.
John Wessels,
Regional Director, Intermountain Region, National Park Service.

[FR Doc. 2012-29914 Filed 12-11-12; 8:45 am]

BILLING CODE 4312-52-P